NUCLEAR REGULATORY COMMISSION

[NRC-2019-0139]

Expiration Term for Certificates of Compliance for Transportation Packages

AGENCY: Nuclear Regulatory Commission.

ACTION: Basis document; issuance.

SUMMARY: The U.S. Nuclear Regulatory Commission (NRC) is noticing the availability of the “Basis Document for Expiration Term for Certificates of Compliance for Transportation Packages” (Basis Document). The Basis Document details the NRC's analysis and development of a programmatic basis for the 5-year expiration term for certificates of compliance for transportation packages.

DATES: The basis document is available on July 8, 2019.

ADDRESSES: Please refer to Docket ID NRC-2019-0139 when contacting the NRC about the availability of information regarding this document. You may obtain publicly-available information related to this document using any of the following methods:

• Federal Rulemaking Website: Go to https://www.regulations.gov/ and search for Docket ID NRC-2019-0139. Address questions about docket IDs in Regulations.gov to Jennifer Borges; telephone: 301-287-9127; email: Jennifer.Borges@nrc.gov. For technical questions, contact the individual listed in the FOR FURTHER INFORMATION CONTACT section of this document.

• NRC's Agencywide Documents Access and Management System (ADAMS): You may obtain publicly-available documents online in ADAMS Public Documents collection at https://www.nrc.gov/reading-rm/adams.html. To begin the search, select “Begin Web-based ADAMS Search.” For problems with ADAMS, please contact the NRC's Public Document Room (PDR) reference staff at 1-800-397-4209, 301-415-4737, or by email to pdr.resource@nrc.gov. The Basis Document, “Basis Document for Expiration Term for Certificates of Compliance for Transportation Packages,” and the OIG audit report, “OIG-17-A-21, Audit of NRC's Oversight for Issuing Certificates of Compliance for Radioactive Material Packages,” are available in ADAMS under Accession Nos. ML19140A059 and ML17228A217, respectively.

• NRC's PDR: You may examine and purchase copies of public documents at the NRC's PDR, Room O1-F21, One White Flint North, 11555 Rockville Pike, Rockville, Maryland 20852.

FOR FURTHER INFORMATION CONTACT: Torre Taylor, Office of Nuclear Material Safety and Safeguards, U.S. Nuclear Regulatory Commission, Washington, DC 20555-0001; telephone: 301-415-7900, email: Torre.Taylor@nrc.gov.

SUPPLEMENTARY INFORMATION:

I. Background

The Office of the Inspector General (OIG) conducted an audit of the NRC's oversight of issuing certificates of compliance for radioactive material packages and spent fuel storage casks. The OIG documented its findings in a report entitled, OIG-17-A-21, “Audit of NRC's Oversight for Issuing Certificates of Compliance for Radioactive Material Packages,” dated August 16, 2017. The OIG recommended, in part, that the NRC staff conduct an analysis to develop a regulatory and technical basis for the expiration term for the certificates of compliance for transportation packages.

II. Discussion

Certificates of compliance are issued pursuant to title 10 of the Code of Federal Regulations, part 71, “Packaging and Transportation of Radioactive Material.” The current 5-year expiration term for these certificates was not established by rule, but by agency practice, and the 5-year term was not documented in a technical evaluation. In response to OIG's recommendation, the NRC conducted an analysis of the regulatory and technical bases for the expiration term for certificates of compliance and documented its conclusions in the Basis Document. The Basis Document provides the NRC's analysis, including reviews of the NRC's statutory authority, regulations, agency guidance, and current process for review of applications for transportation package design approvals. The NRC also included information on its evaluation of expiration terms in other NRC program areas in which certificates are issued, stakeholder interactions, the impact of changing expiration terms for transportation certificates of compliance related to foreign competent authorities, and factors to consider in the NRC's evaluation.

The NRC has determined that, absent a request from a vendor for a different term, a 5-year expiration term is appropriate for certificates of compliance for transportation packages, and has documented this determination in a Basis Document. As is further explained in the Basis Document, a longer expiration term could provide equivalent protection for public health and safety, and could potentially save some burden for some NRC certificate holders. The NRC has determined, however, that the efficiency in maintaining consistency between NRC, U.S. Department of Transportation, and foreign competent authority expiration dates in certificates outweighs any burden saved. Moreover, NRC regulations afford flexibility in selecting an appropriate term and certificate holders may request a longer renewal term on a case-by-case basis, with appropriate supporting documentation.

Dated at Rockville, Maryland, this 2nd day of July 2019.
For the Nuclear Regulatory Commission.
John B. McKirgan,
Chief, Spent Fuel Licensing Branch, Division of Spent Fuel Management, Office of Nuclear Materials Safety and Safeguards.

[FR Doc. 2019-14463 Filed 7-5-19; 8:45 am]

BILLING CODE 7590-01-P